ENVIRONMENTAL PROTECTION AGENCY

40 CFR Part 180

[EPA-HQ-OPP-2007-1170; FRL-8362-1]

Benfluralin, Carbaryl, Diazinon, Dicrotophos, Fluometuron, Formetanate Hydrochloride, Glyphosate, Metolachlor, Napropamide, Norflurazon, Pyrazon, and Tau-Fluvalinate; Proposed Tolerance Actions

AGENCY: Environmental Protection Agency (EPA).

ACTION: Proposed rule.

SUMMARY: EPA is proposing to revoke certain tolerances for the herbicides benfluralin and napropamide and the insecticides carbaryl and diazinon. Also, EPA is proposing to modify certain tolerances for the herbicides fluometuron, glyphosate, norflurazon, and pyrazon and the insecticides carbaryl, diazinon, dicrotophos, formetanate hydrochloride, and tau-fluvalinate. In addition, EPA is proposing to establish new tolerances for the herbicides fluometuron, glyphosate, metolachlor, and pyrazon and the insecticides carbaryl and formetanate hydrochloride. The regulatory actions proposed in this document are in follow-up to the Agency's reregistration program under the Federal Insecticide, Fungicide, and Rodenticide Act (FIFRA), and tolerance reassessment program under the Federal Food, Drug, and Cosmetic Act (FFDCA) section 408(q).

DATES: Comments must be received on or before July 21, 2008.

ADDRESSES: Submit your comments, identified by docket identification (ID) number EPA-HQ-OPP-2007-1170, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket's normal hours of operation (8:30 a.m. to 4 p.m., Monday through Friday, excluding legal holidays). Special arrangements should be made for deliveries of boxed information. The Docket Facility telephone number is (703) 305-5805.

Instructions: Direct your comments to docket ID number EPA-HQ-OPP-2007-1170. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Jane Smith, Special Review and Reregistration Division (7508P), Office of Pesticide Programs, Environmental Protection Agency, 1200 Pennsylvania Ave, NW., Washington, DC 20460-0001; telephone number: (703) 308-0048; e-mail address: smith.jane-scott@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II.A. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. What Can I do if I Wish the Agency to Maintain a Tolerance that the Agency Proposes to Revoke?

This proposed rule provides a comment period of 60 days for any person to state an interest in retaining a tolerance proposed for revocation. If EPA receives a comment within the 60-day period to that effect, EPA will not proceed to revoke the tolerance immediately. However, EPA will take steps to ensure the submission of any needed supporting data and will issue an order in the Federal Register under FFDCA section 408(f), if needed. The order would specify data needed and the timeframes for its submission, and would require that within 90 days some person or persons notify EPA that they will submit the data. If the data are not submitted as required in the order, EPA will take appropriate action under FFDCA.

EPA issues a final rule after considering comments that are submitted in response to this proposed rule. In addition to submitting comments in response to this proposal, you may also submit an objection at the time of the final rule. If you fail to file an objection to the final rule within the time period specified, you will have waived the right to raise any issues resolved in the final rule. After the specified time, issues resolved in the final rule cannot be raised again in any subsequent proceedings.

II. Background

A. What Action is the Agency Taking?

EPA is proposing to revoke, modify, and establish specific tolerances for residues of the herbicides benfluralin, fluometuron, glyphosate, metolachlor, napropamide, norflurazon, and pyrazon; and the insecticides carbaryl, diazinon, dicrotophos, formetanate hydrochloride, and tau-fluvalinate in or on commodities listed in the regulatory text.

EPA is proposing these tolerance actions to implement the tolerance recommendations made during the reregistration and tolerance reassessment processes (including follow-up on canceled or additional uses of pesticides). As part of these processes, EPA is required to determine whether each of the amended tolerances meets the safety standard of FFDCA. The safety finding determination of “reasonable certainty of no harm” is discussed in detail in each Reregistration Eligibility Decision (RED) and Report of the Food Quality Protection Act (FQPA) Tolerance Reassessment Progress and Risk Management Decision (TRED) for the active ingredient. REDs and TREDs recommend the implementation of certain tolerance actions, including modifications to reflect current use patterns, meet safety findings, and change commodity names and groupings in accordance with new EPA policy. Printed copies of many REDs and TREDs may be obtained from EPA's National Service Center for Environmental Publications (EPA/NSCEP), P.O. Box 42419, Cincinnati, OH 45242-2419, telephone number: 1-800-490-9198; fax number: 1-513-489-8695; Internet at http://www.epa.gov/ncepihom and from the National Technical Information Service (NTIS), 5285 Port Royal Rd., Springfield, VA 22161, telephone number: 1-800-553-6847 or (703) 605-6000; Internet at http://www.ntis.gov. Electronic copies of REDs and TREDs are available on the Internet http://www.epa.gov/pesticides/reregistration/status.htm for benfluralin, carbaryl, diazinon, dicrotophos, fluometuron, formetanate hydrochloride, glyphosate, metolachlor, napropamide, norflurazon, pyrazon, and tau-fluvalinate.

The selection of an individual tolerance level is based on crop field residue studies designed to produce the maximum residues under the existing or proposed product label. Generally, the level selected for a tolerance is a value slightly above the maximum residue found in such studies, provided that the tolerance is safe. The evaluation of whether a tolerance is safe is a separate inquiry. EPA recommends the raising of a tolerance when data show that:

1. Lawful use (sometimes through a label change) may result in a higher residue level on the commodity.

2. The tolerance remains safe, notwithstanding increased residue level allowed under the tolerance.

In REDs, Chapter IV on “Risk management, Reregistration, and Tolerance reassessment” typically describes the regulatory position, FQPA assessment, cumulative safety determination, determination of safety for U.S. general population, and safety for infants and children. In particular, the human health risk assessment document which supports the RED describes risk exposure estimates and whether the Agency has concerns. In TREDs, the Agency discusses its evaluation of the dietary risk associated with the active ingredient and whether it can determine that there is a reasonable certainty (with appropriate mitigation) that no harm to any population subgroup will result from aggregate exposure. EPA also seeks to harmonize tolerances with international standards set by the Codex Alimentarius Commission, as described in Unit III.

Explanations for proposed modifications in tolerances can be found in the RED and TRED document and in more detail in the Residue Chemistry Chapter document which supports the RED and TRED. Copies of the Residue Chemistry Chapter documents are found in the Administrative Record electronically. Electronic copies are available through EPA's electronic public docket and comment system, regulations.gov at http://www.regulations.gov. You may search for docket ID number EPA-HQ-OPP-2007-1170 and/or Benfluralin (EPA-HQ-OPP-2004-0210), Fluometuron (EPA-HQ-OPP-2004-0372), Formetanate Hydrochloride (EPA-HQ-OPP-2004-0032), Metolachlor (EPA-HQ-OPP-2007-0045), Napropamide (EPA-HQ-OPP-2004-0162), Pyrazon (EPA-HQ-OPP-2004-0381), and Tau-Fluvalinate (EPA-HQ-OPP-2005-0230) then click on that docket ID number to view its contents.

EPA has determined that the aggregate exposures and risks are not of concern for the pesticide active ingredients mentioned in this unit based upon the data identified in the RED or TRED which lists the submitted studies that the Agency found acceptable.

EPA has found that the tolerances that are proposed in this document to be modified, are safe; i.e., that there is a reasonable certainty that no harm will result to infants and children from aggregate exposure to the pesticide chemical residues, in accordance with FFDCA section 408(b)(2)(C). (Note that changes to tolerance nomenclature do not constitute modifications of tolerances). These findings are discussed in detail in each RED or TRED. The references are available for inspection as described in this document under SUPPLEMENTARY INFORMATION.

In addition, EPA is proposing to revoke certain specific tolerances because either they are no longer needed or are associated with food uses that are no longer registered under FIFRA. Those instances where registrations were canceled were because the registrant failed to pay the required maintenance fee and/or the registrant voluntarily requested cancellation of one or more registered uses of the pesticide. It is EPA's general practice to propose revocation of those tolerances for residues of pesticide active ingredients on crop uses for which there are no active registrations under FIFRA, unless any person in comments on the proposal indicates a need for the tolerance to cover residues in or on imported commodities or legally treated domestic commodities.

1. Benfluralin. The use of benfluralin on peanuts was voluntarily canceled on June 25, 2003 (68 FR 37811)(FRL-7312-5); therefore, the Agency has determined that the tolerance on peanuts should be revoked. The Agency is also revising commodity terminology to conform to current practice by removing the “N” for negligible residues associated with the tolerances and changing the heading in 40 CFR 180.208 to the common chemical name, benfluralin. Therefore, EPA proposes revoking the tolerance in 40 CFR 180.208(a) for residues of benfluralin (N-Butyl-N-ethyl-ααα-trifluoro-2,6-dinitro-p-toluidine) in/on peanuts at 0.05(N); deleting the “(N)” for all the tolerance entries; and changing the heading in 40 CFR 180.208 to benfluralin.

Currently, there are no Codex MRLs in place for benfluralin.

2. Carbaryl. Currently tolerances on raw agricultural food commodities are established for residues of carbaryl, including its hydrolysis product 1-naphthol calculated as 1-naphthyl N-methylcarbamate. The Agency has determined that the hydrolysis product, 1-naphthol calculated as 1-naphthyl N-methylcarbamate does not contribute significantly to the residues and has considerably less potential as a cholinesterase inhibitor; therefore, the residue of concern for plants should be the parent compound, carbaryl, only. Additionally, the Agency determined that the regulated residues of concern in/on livestock (meat and milk) should be expanded to also include the free and conjugated residues of carbaryl: 5,6-dihydro-5,6-dihydroxy carbaryl, and 5-methoxy-6-hydroxy carbaryl. Consequently, 40 CFR 180.169(a)(3) and (a)(4) are not required. Therefore, EPA proposes revising the tolerance expressions for raw agricultural commodities in 40 CFR 180.169(a)(1) to regulate residues of the insecticide carbaryl (1-naphthyl N-methylcarbamate) and revising the tolerance expressions for livestock (meat and milk) in 40 CFR 180.169(a)(2) to regulate the residues of the insecticide carbaryl (1-naphthyl N-methylcarbamate) including its metabolites 1-naphthol (naphthyl-sulfate), 5,6-dihydrodihydroxycarbaryl and 5,6-dihydrodihydroxy naphthol, calculated as 1-naphthyl N-methylcarbamate and the free and conjugated residues of carbaryl: 5.6-dihydro-5,6-dihydroxy carbaryl, and 5-methoxy-6-hydroxy carbaryl; transferring the tolerances in 40 CFR 180.169(a)(3) to 40 CFR 180.169(a)(2); transfering tolerances in 40 CFR 180.169(a)(4) to 40 CFR 180.169(a)(1) and removing 40 CFR 180.169(a)(3) and (a)(4).

Based on the available field trial data and food processing that indicate residues of carbaryl are as high as 10.6 ppm in/on apple wet pomace (in which residues concentrate at 1.3x), 9.55 ppm in/on aspirated grain fractions (7.4x), 8.09 ppm in/on citrus oil (2.4x), 7.94 ppm in/on raisins (1.4x), and 11 ppm rice hulls (2.4x), the Agency has determined tolerances should be established in/on apple, wet pomace at 15 ppm; grain, aspirated fractions at 70 ppm; citrus, oil at 20 ppm; grape, raisin at 12 ppm; and rice, hulls at 30 ppm. Based on the available field trial data that indicate residues of carbaryl are as high as 0.5 ppm in/on sugar beet roots and 30 ppm in/on sorghum grain stover, the Agency determined that tolerances should be established for beet, sugar, roots at 0.5 ppm and sorghum, grain, stover at 30 ppm. Therefore, EPA proposes establishing tolerances in 40 CFR 180.169(a)(1) as proposed for carbaryl residues of concern in/on apple, wet pomace at 15 ppm; grain, aspirated fractions at 70 ppm; citrus, oil at 20 ppm; grape, raisin at 12 ppm; rice, hulls at 30 ppm; beet, sugar, roots at 0.5 ppm; and sorghum, grain, stover at 30 ppm.

The Agency has determined that many of the existing carbaryl tolerances on individual commodities should be reassigned as crop group/subgroup tolerances because the Agency has the field trial residue data and/or tolerances in place for the representative commodities required to establish the corresponding crop group tolerances. Specifically, based on available field trial data that indicate residues of carbaryl do not exceed 0.1 ppm in/on almonds, chestnuts, hazelnuts, and pecans, the Agency determined that the tolerance should be decreased to 0.1 ppm in/on nut, tree group 14, except walnuts replacing the individual tolerances. Based on available field trial data that indicate residues of carbaryl do not exceed 2 ppm in/on the roots of garden beet, carrot, horseradish, parsnip, radish, rutabaga, and salsify, the Agency determined that the tolerance should be decreased to 2 ppm in/on vegetable, root and tuber, group 1, except sugar beet and sweet potato replacing the individual tolerances. Based on available field trial data that indicate residues of carbaryl do not exceed 3 ppm in/on blueberry, the Agency determined that tolerance should be decreased to 3 ppm in/on bushberry subgroup 13-07B replacing the individual tolerance. Based on available field trial data that indicate residues of carbaryl do not exceed 5 ppm in/on eggplant, tomatoes and peppers, the Agency determined that tolerance should be decreased to 5 ppm in/on vegetable, fruiting, group 8 replacing the individual tolerances. Therefore, EPA proposes decreasing and revising the individual tolerances to crop group tolerances in newly revised 40 CFR 180.169 (a)(1) for residues of the insecticide carbaryl in/on “almond, chestnut, hazelnut, and pecan from 1 ppm to nut, tree group 14, except walnut at 0.1 ppm”; “beet, garden, roots; carrot, roots; parsnip; radish; rutabaga; salsify, roots; and turnip, roots from 5 ppm, and horseradish from 10 ppm to vegetable, root and tuber, group 1, except sugar beet and sweet potato at 2 ppm;” blueberry from 10 ppm to bushberry subgroup 13-07B at 3 ppm; and eggplant, pepper, and tomato from 10 ppm to vegetable, fruiting, group 8 at 5 ppm.

Based on available field trial data that indicate residues of carbaryl do not exceed 1.0 ppm in/on bean, cowpea, and lentil seed; the Agency determined that the tolerance should be decreased to 1.0 ppm on pea and bean, dried shelled, except soybean, subgroup 6C replacing the individual tolerances. Based on available field trial data that indicated residues of carbaryl do not exceed 60 ppm in/on cowpea forage, cowpea hay and field pea vines; the Agency determined the tolerance should be decreased to 60 ppm on vegetable, foliage of legume, group 7 replacing the individual tolerances. Based on available field trial data that indicate residues of carbaryl do not exceed 3 ppm in/on cucumber, melon, pumpkin, summer squash, and winter squash; the Agency determined that the tolerance should be decreased to 3 ppm on vegetable, cucurbit, group 9 replacing the individual tolerances. Based on available field trial data that indicate residues of carbaryl do not exceed 3 ppm in/on celery and Swiss chard; the Agency determined that the tolerance should be decreased to 3 ppm on leaf petioles subgroup 4B replacing the individual tolerances. Therefore, EPA proposes decreasing and revising tolerances in 180.169(a)(1) as proposed for carbaryl residues of concern in /on “bean and lentil, seed from 10 ppm and cowpea from 5 ppm to pea and bean, dried shelled, except soybean, subgroup 6C at 1.0 ppm;” cowpea, forage; cowpea, hay; and pea, field, vines from 100 ppm to vegetable, foliage of legume, group 7 at 60 ppm: cucumber; melon; pumpkin; squash, summer; and squash, winter from 10 ppm to vegetable, cucurbit, group 9 at 3 ppm; and celery from 10 ppm and Swiss chard from 12 ppm to leaf petioles subgroup 4B at 3 ppm.

Based on available field trial data that indicate residues of carbaryl as high as 75 ppm on the tops/greens of garden beets, salsify and turnips; the Agency determined that the tolerance should be increased to 75 ppm in/on vegetable, leaves of root and tuber, group 2, except sugar beet tops replacing the individual tolerances. Based on available field trial data that indicate residues of carbaryl as high at 2 ppm in/on on potatoes, the Agency has determined the tolerance should be increased to 2 ppm in/on vegetable, root and tuber, group 1, except sugar beet and sweet potato replacing the individual tolerance on potato. Therefore, EPA proposes increasing and revising the individual tolerances to crop group tolerances in 40 CFR 180.169 (a)(1) as proposed for carbaryl residues of concern in/on “beet, garden, tops and turnip, greens from 12 ppm and salsify, tops from 10 ppm to vegetable, leaves of root and tuber, group 2 except sugar beet tops at 75 ppm;” and “potato from 0.2(N) ppm to vegetable, root and tuber, group 1, except sugar beet and sweet potato at 2 ppm.” The Agency determined that the increased tolerances are safe; i.e. there is a reasonable certainty that no harm will result from aggregate exposure to the pesticide chemical residue.

Based on livestock feeding studies and estimating a maximum dietary burden, residues of carbaryl do not exceed 0.5 ppm in fat, 1 ppm in milk, 1 ppm in meat, and 3 ppm in meat byproducts of cattle, goats, hog, horses, and sheep, the Agency has determined the tolerances should be increased to 0.5 ppm in fat, 1 ppm in milk, 1 ppm in meat, and 3 ppm in meat byproducts of cattle, goats, hog, horses, and sheep. Because of the increased tolerances on livestock meat byproducts at 3 ppm cover livestock liver and kidney residues, separate tolerances for livestock liver and kidney at 1 ppm are no longer needed. Therefore, EPA proposes increasing and removing tolerances in 40 CFR 180.169(a)(2) as proposed for the combined carbaryl residues of concern in/on cattle, goat, hog, horse and sheep fat from 0.1 to 0.5 ppm; cattle, goat, hog, horse and sheep meat from 0.1 to 1.0 ppm; cattle, goat, hog, horse and sheep meat byproducts from 0.1 to 3.0 ppm; and milk from 0.3 to 1.0 ppm; and remove the tolerances in/on cattle, goat, swine, horse and sheep liver and kidney at 1 ppm. The Agency determined that the increased tolerances are safe; i.e. there is a reasonable certainty that no harm will result from aggregate exposure to the pesticide chemical residue.

Based on available field trial residue data that indicate residues do not exceed 50 ppm in/on alfalfa, 75 ppm in/on alfalfa hay, 5 ppm in/on bananas, 25 ppm in/on sugar beet tops, 50 ppm in/on clover forage, 70 ppm in/on clover hay, 0.1 ppm on sweet corn including field and pop corn grains, 20 ppm in/on field corn stover, 20 ppm in/on pop corn stover, 30 ppm in/on field corn forage, 3 ppm in/on cranberry, 0.5 ppm in/on flax seed, 15 ppm in/on grass hay, 1 ppm in/on millet proso grain (translating from wheat grain), 20 ppm in/on millet proso straw (translating from wheat straw), 4 ppm in/on okra, 0.05 ppm in/on peanut, 20 ppm in/on peanut hay, 0.1 ppm in/on pistachio, 5 ppm in/on prickly pear cactus fruit, 60 ppm in/on rice straw, 30 ppm in/on sorghum grain forage, 0.5 ppm in/on soybeans, 15 ppm in/on soybean forage and hay, 4 ppm in/on strawberry, 0.5 ppm in/on sunflower seed, 15 ppm in/on trefoil forage, 25 ppm in/on trefoil hay, 1 ppm in/on wheat grain, 30 in/on wheat hay (which should include 30 ppm in/on wheat forage) and 20 ppm in/on wheat straw, the Agency determined that the tolerances should be decreased to these residue levels that are not exceeded for each of these commodities. Field trial residue data also indicates that separate tolerances should be established for corn, field, grain at 0.02 ppm, corn, pop at 0.02 ppm, and wheat, forage at 30 ppm. The Agency is also revising commodity terminology to conform to current practice. Therefore, EPA proposes decreasing, establishing, and revising the tolerances in 40 CFR 180.169(a)(1) as proposed for carbaryl residues of concern in/on alfalfa from 100 to 50 ppm; alfalfa, hay from 100 to 75 ppm; banana from 10 to 5 ppm; beet, sugar, tops from 100 to 25 ppm; clover from 100 to clover, forage at 50 ppm; clover, hay from 100 to 70 ppm; “corn, sweet, kernel plus cob with husks removed” from 5 to 0.1 ppm; corn, stover at 100 ppm to corn, field, stover at 20 ppm and corn, pop, stover at 20 ppm; corn, forage at 100 ppm to corn, field, forage at 30 ppm; cranberry from 10 to 3 ppm; flax, seed from 5 to 0.5 ppm; grass, hay from 100 to 15 ppm; millet, proso, grain from 3 to 1 ppm; millet, proso, straw from 100 to 20 ppm; okra from 10 to 4 ppm; peanut from 5 to 0.05 ppm; peanut, hay from 100 to 20 ppm; pistachio from 1 to 0.1 ppm; prickly pear cactus, fruit from 12 ppm to cactus, fruit at 5 ppm; rice, straw from 100 to 60 ppm; sorghum, forage from 100 to sorghum, grain, forage at 30 ppm; soybean from 5 to soybean, seed at 0.5 ppm; soybean, forage from 100 to 15 ppm; soybean, hay from 100 to 15 ppm; strawberry from 10 to 4 ppm; sunflower, seed from 1 to 0.5 ppm; trefoil, forage from 100 to 15 ppm; trefoil, hay from 100 to 25 ppm; wheat, grain from 3 to 1 ppm; wheat, hay from 100 to 30; wheat, straw from 100 to 20 ppm, and establishing corn, field, grain at 0.02; corn, pop, grain at 0.02 ppm; and wheat, forage at 30 ppm.

Based on the available field trial data that indicate carbaryl residues as high as 50 ppm in/on almond hulls, 15 ppm in/on asparagus, 21 ppm in/on cabbage, 215 ppm in/on sweet corn stover, 185 ppm in/on sweet corn forage, 22 ppm dandelion leaves, 22 ppm in/on parsley leaves, 15 ppm rice grain, 12 ppm in/on the representative commodities of pome fruit group 11, and 22 ppm in/on spinach, the Agency determined the tolerances should be increased to these levels. Therefore, EPA proposes increasing and revising the tolerances in 40 CFR 180.169(a)(1) as proposed for carbaryl residues of concern in/on almond, hulls from 40 to 50 ppm; asparagus from 10 to 15 ppm; cabbage from 10 to 21 ppm; corn, stover from 100 ppm to corn, sweet, stover at 215 ppm; corn, forage from 100 ppm to corn, sweet, forage at 185 ppm; dandelion, leaves from 12 to 22 ppm; parsley, leaves from 12 to 22 ppm; rice, grain from 5 to 15 ppm; fruit, pome at 10 ppm to fruit, pome, group 11 at 12 ppm; spinach from 12 to 22 ppm. The Agency determined that the increased tolerances are safe; i.e. there is a reasonable certainty that no harm will result from aggregate exposure to the pesticide chemical residue.

There are currently no active registrations with uses on cotton; therefore, the Agency has determined that tolerances for cotton, undelinted seed at 5 ppm should be revoked. Based on poultry feeding studies and the fact there are no longer direct uses on poultry and poultry houses, there is no reasonable expectation of finite residues [in accordance with 40 CFR 180.6(a)(3)] in poultry and egg; therefore, the Agency has determined that tolerances for poultry meat and fat at 5 ppm and egg at 0.5 should be revoked. In the event there may be existing stocks of products bearing labels having uses on cotton and/or direct uses on poultry and poultry houses, the tolerances on cotton, poultry and egg will be revoked on October 31, 2009. The tolerance expiration date of October 31, 2009 should allow sufficient time for end users to exhaust those existing stocks and for treated commodities to clear the channels of trade. In order to consolidate the tolerances on poultry meat, fat and egg, the Agency is transferring the carbaryl tolerance on egg entry from 40 CFR 180.319 to 40 CFR 180.169(a)(2). Therefore, EPA proposes transferring the entry in 40 CFR 180.319 carbaryl residues of concern which corresponds with egg at 0.5 ppm to 40 CFR 180.169(a)(2) as proposed; revoking the tolerances in 40 CFR 180.169(a)(2) for carbaryl residues of concern in/on cotton, undelinted seed at 5 ppm on October 31, 2009; poultry, fat at 5 ppm on October 31, 2009; poultry, meat at 5 ppm on October 31, 2009; and newly transferred egg at 0.5 ppm on October 31, 2009; and removing the entry in 40 CFR 180.319 for carbaryl (1-naphthyl N-methylcarbamate) and its metabolite 1-naphthol, calculated as carbaryl which corresponds to egg at 0.5 ppm.

The Agency has also determined that many of the existing carbaryl tolerances on individual commodities should be reassigned as crop group/subgroup tolerances because the Agency has the field trial residue data and/or tolerances in place for the representative commodities required to establish the corresponding crop group tolerances. Based on the available field trial data that indicate residues of carbaryl do not exceed 10 ppm in/on kale and mustard greens, the Agency has determined the tolerances for kale and mustard greens should be decreased to 10 ppm and removed since both commodities should be covered by vegetable, brassica, leafy, group 5, except cabbage at 10 ppm tolerance. Therefore, EPA proposes revising the tolerances in 40 CFR 180.169 as proposed for carbaryl residues of concern in/on apricot; cherry; nectarine; peach; plum, prune, fresh at 10 ppm to fruit, stone, group 12 at 10 ppm;” “blackberry, boysenberry, dewberry, loganberry, raspberry at 12 ppm to caneberry subgroup 13-07A at 12 ppm;” “broccoli; Brussels sprouts; cabbage, Chinese; cauliflower; collards; kohlrabi; and mustard greens from 10 ppm and kale and mustard greens from 12 ppm to vegetable, brassica, leafy, group 5, except cabbage at 10 ppm;” bean and pea (with pods) at 10 ppm to vegetable, legume, edible-podded subgroup 6A at 10 ppm; prickly pear cactus, pads to cactus, pads; sorghum, grain to sorghum, grain, grain; dill, fresh to dillweed, fresh leaves; fruit, citrus to fruit, citrus, group 10; and grass to grass, forage.

The proposed tolerance actions herein for carbaryl, to implement the recommendations of the carbaryl RED, reflect use patterns in the U.S. which support a different tolerance than the Codex level on: pome fruit group 11; sugar beet root; vegetable, root and tuber, group 1, except sugar beet and sweet potato; field and sweet corn stover; cattle, goat, hog, horse, and sheep meat; rice grain, hulls, and straw; soybean, seed; sunflower seed; sorghum forage; tree nut group 14; wheat straw, grain, fodder and bran; because of differences in good agricultural practices. However, compatibility exists for stone fruit, and will exist based on this tolerance action for carbaryl residues in or on almond hulls; asparagus; vegetable, fruiting, group 8; cattle, goat, hog, horse, and sheep meat byproducts (including liver and kidney); field corn/maize; sweet corn; wheat germ and flour.

3. Diazinon. Based on available field trial data that indicate residues of diazinon as high as 0.16 ppm in/on apricots, cherries, nectarines, peaches and plums, the Agency determined that the tolerances should be decreased to 0.2 ppm. There are no active registrations reflecting uses on field corn; therefore the Agency determined the tolerance in/on corn, field, forage is no longer needed. Based on available field trial data that indicate residues of diazinon are less than 0.05 ppm in/on watercress, the Agency determined that the tolerance should be decreased to 0.05 ppm. EPA is also revising the commodity terminology to conform to current Agency practice. Therefore, EPA proposes decreasing the tolerances in 40 CFR 180.153(a)(1) for diazinon residues of concern in/on apricot from 0.5 to 0.20 ppm; cherry from 0.75 to cherry, sweet and cherry, tart at 0.2 ppm; nectarine from 0.5 to 0.2 ppm; peach from 0.7 to 0.2 ppm; plum, prune, fresh from 0.5 to 0.2 ppm; and watercress from 0.7 to 0.05 ppm; and revoking corn, field, forage at 40.0 ppm.

Because there are no food use registrations in/on olives, the Agency has determined the tolerance is no longer needed. Also, based on available livestock studies indicating residues of diazinon in fat as high as 0.39 ppm, the Agency has determined that the tolerance in/on cattle, fat should be decreased to 0.5 ppm. Therefore, EPA proposes revoking the tolerance in 40 CFR 180.153(a)(1) for diazinon residues of concern in/on olive at 1.0 ppm and decreasing the tolerance in/on cattle fat from 0.7 ppm to 0.5 ppm.

The Agency published a cancellation order on March 6, 2002 (67 FR 10196) (FRL-6826-2) as a follow up to a January 4, 2002 notice of receipt from the end-use products registrants, requesting cancellations and amendments of their diazinon product registrations terminating all indoor uses, certain agricultural uses and certain outdoor non-agricultural uses and limiting some registrations to specific regions. Specifically, in the cancellation order, the uses were amended for banana, cucumbers, celery, parsley, parsnips, peppers, potatoes, sweet potatoes, winter squash, summer squash, Swiss chard, and turnips (roots and greens) to regional uses. Therefore, the Agency has determined the corresponding tolerances should be transferred from permanent tolerances to regional tolerances. The uses were canceled which correspond to the tolerances on radicchio at 0.7 ppm; citrus at 0.7 ppm; sheep fat at 0.7 ppm; sheep, meat (fat basis) at 0.7 ppm; and sheep, meat byproducts (fat basis) at 0.7 ppm. Therefore, the Agency has determined that these tolerances should be revoked, except for the tolerance on kiwi which is being retained for import purposes. EPA is also revising the commodity terminology to conform to current Agency practice. Therefore, EPA proposes transferring the tolerances in 40 CFR 180.153(a)(1) to 40 CFR 180.153(c) for banana; cucumber; celery; parsley, leaves; parsnip; pepper; potato; potato, sweet; squash, summer; squash, winter; Swiss chard; turnip, roots; and turnip, greens to turnip, tops; revoking tolerances in 40 CFR 180.153(a)(1) for radicchio at 0.7 ppm; citrus at 0.7 ppm; sheep fat at 0.7 ppm; sheep, meat byproducts (fat basis) at 0.7 ppm; and sheep, meat byproducts (fat basis) at 0.7 ppm; and revising a tolerance in 40 CFR 180.153(a)(1) to add a footnote to kiwifruit that reads as follows: “There are no domestic registrations in/on kiwifruit as of March 6, 2002.”

The Agency published a cancellation order December 6, 2006 (72 FR 40874) (FRL-8139-6) which resulted in the cancellation of certain uses of diazinon in the granular, liquid and/or wettable powder formulations on a variety of commodities; however, only uses on sugar beets, sweet corn, Chinese broccoli, Chinese cabbage, Chinese mustard, Chinese radish, grapes, hops, walnuts, and mushroom houses were canceled on all registrations such that the tolerances are no longer needed. Therefore, EPA proposes revoking the tolerances in 40 CFR 180.153 for diazinon residues of concern in/on beet, sugar, roots at 0.5 ppm; beet, sugar, tops at 10 ppm; corn, sweet, forage at 40 ppm; corn, sweet, kernel plus cob with husks removed at 0.7 ppm; grape at 0.75 ppm; hop, dried cones at 0.75 ppm; mushroom at 0.75 ppm; walnuts at 0.5 ppm; radish, oriental, roots at 0.10 ppm; and radish, oriental, tops at 0.10 ppm.

The registration for the use on almonds is only in California; therefore, the Agency has determined that the tolerance in/on almonds is a regional registration. Therefore, EPA proposes transferring the tolerance in 40 CFR 180.153(a)(1) for almond at 0.5 ppm to 40 CFR 180.153(c); correcting the citation in 40 CFR 180.153(c) from 180.1(n) to 180.1(m); and correcting the CAS number from 33-41-5 to 333-41-5.

Because field pea hay and vines are no longer recognized as raw agricultural commodities, field pea hay and vines are no longer considered to be a significant food/feed item; therefore, the associated tolerances are no longer needed. Therefore, EPA proposes revoking the tolerances in 40 CFR 180.153(a)(1) in/on pea, field, hay at 10.0 ppm and pea, field, vines at 25.0 ppm.

There are currently no registrations for food and feed handling establishment uses outlined in 40 CFR 180.153(a)(2) and 40 CFR 180.153(a)(3). Therefore, EPA proposes removing the paragraphs in 40 CFR 180.153(a)(2) and 40 CFR 180.153(a)(3).

The individual tolerances in/on blackberry, loganberry and raspberry are being consolidated under the caneberry subgroup at 0.75 ppm. EPA is revising the commodity terminology to conform to current Agency practice. Therefore, EPA proposes revising and increasing tolerances in 40 CFR 180.153(a) for diazinon residues of concern from “blackberry at 0.5 ppm, loganberry at 0.75 ppm, and raspberry at 0.5 ppm to caneberry subgroup 13-07A at 0.75 ppm” and revising endive to escarole.

The proposed tolerance actions herein for diazinon, to implement the recommendations of the diazinon RED, reflect use patterns in the U.S. which support a different tolerance than the Codex level on some commodities because of differences in good agricultural practices. However, compatibility exists for all of the citrus fruits, Chinese cabbage, grapes, mushrooms, olives, peaches, plums, and sheep byproducts and fat, based on the proposed reassessed U.S. tolerances implemented.

4. Dicrotophos. Based on available cotton field trial data that indicate residues of dicrotophos as high as 0.13 ppm in/on cotton seed and 1.8 ppm in/on cotton gin by products, the Agency determined that the tolerances should be increased to 0.2 ppm on cotton, undelinted seed and a tolerance should be established on cotton gin by products at 2.0 ppm. Therefore, EPA proposes increasing a tolerance in 40 CFR 180.299 for dicrotophos residues of concern in/on cotton, undelinted seed from 0.05 to 0.2 ppm and establishing a tolerance of in/on cotton gin by products at 2.0 ppm. The Agency determined that the increased tolerances are safe; i.e. there is a reasonable certainty that no harm will result from aggregate exposure to the pesticide chemical residue.

The Agency is also standardizing the subsections of the 40 CFR 180 and changing the section heading to dicrotophos. Therefore, EPA proposes revising 40 CFR 180.299 by establishing 4 subsections entitled: “(a) General, (b) Section 18 emergency exemptions-reserved; (c) Tolerances with regional registrations-reserved and (d) Indirect or inadvertent residues - reserved and change the heading from dimethyl phosphate of 3-hydroxy-N,Ndimethyl-cis-crotonamide to dicrotophos.”

Currently, there are no Codex MRLs in place for dicrotophos.

5. Fluometuron. Tolerances are currently established for negligible residues of the herbicide fluometuron (1,1-dimethyl-3-(α, α, α-trifluoro-m-tolyl)urea) in 40 CFR 180.229 for plant commodities. Based on reevaluation of the plant and animal metabolism data, the Agency determined that the regulated residues of concern in/on plants consist of the parent compound, fluometuron, and the metabolite, trifluoromethylaniline (TFMA); and in animal tissue the regulated residues consist of the parent compound, the hydroxylated metabolites [CGA-236431 (1-(4-hydroxy-3-trifluoromethyl-phenyl)urea), CGA-236432 (1-methyl-3-(4-hydroxy-3-trifluoromethylphenyl)urea), CGA-13211 (1,1-dimethyl-3-(4-hydroxy-3-triflurormethylphenyl)urea)], and their conjugates (determined as TFMS). The chemical name for fluometuron should be corrected to the CAS name (N,N-dimethyl-N'-(3-trifluoromethyl)phenyl)urea) in the tolerance expression. Therefore, EPA proposes revising the tolerance expression for plants in 40 CFR 180.229(a)(1) and 180.229(d) for the combined residues of the herbicide fluometuron (N,N-dimethyl-N'-(3-trifluoromethyl)phenyl)urea) and its metabolite trifluoromethylaniline (TFMA) determined as TFMA. EPA also proposes revising the tolerance expression for livestock in 40 CFR 180.229(a)(2) for the combined residues of the herbicide fluometuron (N,N-dimethyl-N'-(3-trifluoromethyl)phenyl)urea), its metabolites determined as TFMA, and the hydroxylated metabolites [CGA-236431 (1-(4-hydroxy-3-trifluoromethyl-phenyl)urea), CGA-236432 (1-methyl-3-(4-hydroxy-3-trifluoromethylphenyl)urea), CGA-13211 (1,1-dimethyl-3-(4-hydroxy-3-trifluoromethylphenyl)urea)].

Based on available field trial data that indicate residues of fluometuron as high as 0.58 ppm in or on cotton and 3.1 ppm in/on cotton gin byproducts, the Agency determined that the tolerance should be increased in/on cotton, undelinted seed to 1.0 ppm and a tolerance should be established in/on cotton gin by products at 3.5 ppm. Therefore, EPA proposes increasing the tolerance in 40 CFR 180.229(a)(1) for the combined residues of fluometuron and its metabolites of concern in/on cotton, undelinted seed from 0.1 ppm to 1.0 ppm and establishing a tolerance in 40 CFR 180.229(a)(1) in/on cotton, gin byproducts at 3.5 ppm. The Agency determined that the increased tolerances are safe; i.e. there is a reasonable certainty that no harm will result from aggregate exposure to the pesticide chemical residue.

Based on the livestock feeding studies that indicate residues of fluometuron as high as 0.041 ppm in liver; 0.0096 ppm in kidney; 0.0041 ppm in milk; and 0.0315 ppm egg, poultry meat, fat and meat byproducts, the Agency determined that tolerances should be established in cattle, goat, horse, hog, sheep and poultry meat byproducts at 0.1 ppm, in poultry meat and fat at 0.1 ppm and in milk at 0.02 ppm. Therefore, EPA proposes establishing tolerances in 40 CFR 180.229(a)(2) for the combined residues of fluometuron and its metabolites of concern in cattle, meat byproducts; egg; goat, meat byproducts; hog, meat byproducts; horse, meat byproducts; poultry, fat; poultry, meat; poultry, meat byproducts; and sheep, meat byproducts at 0.1 ppm and milk at 0.02 ppm.

Based on the available rotational crop field trial data that indicate residues of fluometuron as high as 0.46 ppm in/on cereal grains, 2.8 ppm in cereal grain forage, 5.8 ppm in/on cereal grain fodder and straw, 0.1 ppm in/on peanut, 1.7 ppm in/on soybean seed, 2.4 ppm in/on soybean forage, 2.7 ppm in/on soybean hay, the Agency determined that tolerances should be established on grain, cereal, group 15 at 0.5 ppm; grain, cereal, forage, group 16 at 3.0 ppm; grain, cereal, fodder and straw group 16 at 6.0 ppm; peanut at 0.1 ppm; peanut, hay at 4.0 ppm; soybean, seed at 2.0 ppm; soybean, forage at 3.0 ppm; and soybean, hay at 3.0 ppm for the inadvertent and indirect residues of fluometuron. Therefore, EPA proposes establishing tolerances in 40 CFR 180.229(d) for the combined residues of fluometuron and its metabolites of concern in grain, cereal, group 15 at 0.5 ppm; grain, cereal, forage, group 16 at 3.0 ppm; grain, cereal, fodder and straw, group 16 at 6.0 ppm; peanut at 0.1 ppm; peanut, hay at 4.0 ppm; soybean, seed at 2.0 ppm; soybean, forage at 3.0 ppm; and soybean, hay at 3.0 ppm.

Based on the available food processing studies that indicate residues of fluometuron as high as 0.1 ppm (concentration factor of 1.7X) in peanut meal; 0.25 ppm (3.2X) in rice hulls; and 0.38 ppm (1.8X) in wheat milled byproducts, the Agency determined that tolerances should be established on peanut, meal at 0.2 ppm; rice, hulls at 1.0 ppm; and wheat, milled byproducts at 1.0 ppm. Therefore, EPA proposes establishing tolerances in 40 CFR 180.229(d) for the combined residues of fluometuron and its metabolites of concern in peanut, meal at 0.2 ppm; rice, hulls at 1.0 ppm; and wheat, milled byproducts at 1.0 ppm.

Currently, there are no Codex MRLs in place for fluometuron.

6. Formetanate hydrochloride. Based on available field trial data that indicate residues of formetanate hydrochloride as high as 0.43 ppm in/on apples and pears; 0.98 ppm in/on grapefruits and oranges; <0.60 ppm in/on lemons; <0.03 ppm (the limit of quantitation) in/on tangerines and limes; and limited data at <0.03 ppm in/on nectarines and peaches; the Agency determined that the tolerances should be decreased to 0.50 ppm in/on apple and pear; 1.5 ppm in/on grapefruit and orange, sweet; 0.03 ppm in/on lime and tangerine; 0.60 ppm in/on lemon; 0.40 ppm in/on nectarine and peach and a tolerance be established on tangelo at 0.03 ppm. Therefore, EPA proposes decreasing the tolerances in 40 CFR 180.276(a) for residues of formetanate hydrochloride in/on apple from 3 to 0.50 ppm; grapefruit from 4 to 1.5 ppm; lemon from 4 to 0.60 ppm; lime from 4 to 0.03 ppm; nectarine 4 to 0.40 ppm; orange, sweet from 4 to 1.5 ppm; peach from 5 to 0.40 ppm; pear from 3 to 0.50 ppm; and tangerine from 4 to 0.03 ppm and establishing a tolerance in/on tangelo at 0.03 ppm.

Based on the field trial and processing studies on apples that indicate the highest average field trial residues are 0.38 ppm and a 4X concentration factor in wet pomace, the Agency determined a tolerance in/on apple, wet pomace should be established at 1.5 ppm. Therefore, EPA proposes establishing a tolerance in 40 CFR 180.276(a) for residues of formetanate hydrochloride in/on apple, wet pomace at 1.5 ppm.

Currently, there are no Codex MRLs in place for formetanate hydrochloride.

7. Glyphosate. The Agency proposed changes in tolerances for glyphosate in the Federal Register notice published on June 7, 2006 (71 FR 32899) (FRL-8062-7), which include harmonization with some Codex tolerances. The Agency received public comment from Monsanto Company generally agreeing with the proposed tolerance changes to 40 CFR 180.364 for glyphosate. However, Monsanto alerted the Agency of more recent changes to glyphosate MRLs finalized by the Codex Alimentarius Commission in July of 2006. Monsanto provided a detailed list of suggested changes to the U.S. tolerances established on glyphosate to achieve better alignment with the newly established Codex MRLs. In response to this comment, the Agency agreed to consider Monsanto's recommendations for harmonization with Codex in a future proposal. The Agency has now determined that the following commodities can be harmonized with Codex MRLs: Cereal grain crop group 15, cotton seed, corn (maize), rape seed, canola seed, and liver and kidney commodities of cattle, goats, hogs, horses and sheep.

The current tolerance for residues of glyphosate in or on “grain, cereal, group 15” is 0.1 parts per million (ppm), but excludes the major crop grains barley, field corn, grain sorghum, oat and wheat, and covers the minor crop grains buckwheat, millet, popcorn, rice, rye, sweet corn, teosinte, triticale, and wild rice. Individual tolerances currently exist for barley, grain (20 ppm); corn, field, grain (1.0 ppm); sorghum, grain, grain (15 ppm); oat, grain (20 ppm); and wheat, grain (5.0 ppm).

In an effort to achieve compatibility with Codex, the Agency has determined that the glyphosate tolerance for “grain, cereal, group 15” should be inclusive of the major crop grains (barley, sorghum, oat, and wheat) the minor grain crops (buckwheat millet, rye, teosinte, and triticale), and increased to 30 ppm. Individual tolerances should be established for the minor crop grains, popcorn, rice, sweet corn, and wild rice, each at 0.1 ppm, and the tolerance for field corn increased from 1.0 to 5.0 ppm. Therefore, EPA proposes to amend tolerances in 40 CFR 180.364 for glyphosate in/on “grain, cereal, group 15, except barley, field corn, sorghum, oat and wheat” to “grain, cereal, group 15, except field corn, popcorn, rice, sweet corn and rice, wild” and increase the tolerance to 30 ppm; and to revoke the individual tolerances for barley, grain at 20 ppm; oat, grain at 20 ppm; sorghum, grain, grain at 15 ppm; wheat, grain at 5 ppm; wheat middlings at 20 ppm; wheat, shorts at 20 ppm; and wheat, bran at 20 ppm; and establish individual tolerances for corn, sweet, grain at 0.1 ppm; corn, pop, grain at 0.1 ppm; rice, grain at 0.1 ppm; rice, wild at 0.1 ppm; and increase the tolerance for corn, field, grain from 1 ppm to 5 ppm. The Agency has determined that the increased tolerances are safe; i.e. there is a reasonable certainty that no harm will result from aggregate exposure to the pesticide chemical residue. The Agency has determined that the increased tolerances are safe; i.e. there is a reasonable certainty that no harm will result from aggregate exposure to the pesticide chemical residue.

In order to further harmonize with Codex, the Agency has determined that the tolerances for glyphosate residues in/on the following commodities should be increased: Cotton, undelinted seed from 35 ppm to 40 ppm; rapeseed, seed from 10 ppm to 20 ppm; canola, seed from 10 ppm to 20 ppm; and and that the tolerance for canola, meal at 15 ppm and rapeseed, meal at 15 ppm should be revoked, as they will be covered by the canola, seed and rapeseed, seed tolerances at 20 ppm. Therefore, EPA proposes increasing the tolerances in 40 CFR 180.364 for the glyphosate residues of concern in/on cotton, undelinted seed from 35 ppm to 40 ppm; rapeseed, seed from 10 ppm to 20 ppm; canola, seed from 10 ppm to 20 ppm; and revoking rapeseed, meal at 15 ppm and canola, meal at 15 ppm. The Agency determined that the increased tolerances are safe; i.e. there is a reasonable certainty that no harm will result from aggregate exposure to the pesticide chemical residue.

Currently, separate tolerances exist for the liver of cattle, goat, horse, sheep and hog at 0.5 ppm, and for the kidney of each of these livestock animals at 4 ppm. In an effort to harmonize with Codex, the Agency has determined that the individual tolerances for liver and kidney should be combined into one commodity defined as meat byproducts for each of the livestock animals, cattle, goat, horse, sheep and hog, and increased to 5 ppm. Therefore, EPA proposes revoking tolerances in 40 CFR 180.364 for residues of glyphosate in or on cattle, kidney at 4.0 ppm; cattle, liver at 0.5 ppm; goat, kidney at 4.0 ppm; goat, liver at 0.5 ppm; horse, kidney at 4.0 ppm; horse, liver at 0.5 ppm; sheep, kidney at 4.0 ppm; sheep, liver at 0.5 ppm; hog, kidney at 4.0 ppm; and hog, liver at 0.5 ppm; and establish tolerances in 40 CFR 180.364 for cattle, meat byproducts at 5 ppm; goat, meat byproducts at 5 ppm; horse, meat byproducts at 5 ppm; sheep, meat byproducts at 5 ppm; and hog, meat byproducts at 5 ppm. The Agency has determined that the increased tolerances are safe; i.e. there is a reasonable certainty that no harm will result from aggregate exposure to the pesticide chemical residue.

In the Federal Register published December 20, 2006 (71 FR 76180) (FRL-8105-9), tolerances for residues of glyphosate in or on sunflower, seed and safflower, seed were increased from 0.1 to 85 ppm; however, duplicate tolerances for these commodities were erroneously published in 40 CFR 180.364 (a) as sunflower at 85 ppm and sunflower, seed at 0.1 ppm; and safflower at 85 ppm and safflower, seed at 0.1 ppm. The correct terminology for these commodities is “sunflower, seed” and “safflower, seed.” Also, in the same Federal Register Notice, a tolerance for the revised commodity definition “vegetable, legume, group 6 except soybean and pea, dry” was established at 5.0 ppm, but this tolerance was published in 40 CFR 180.364(a) in addition to the existing tolerance for the commodity “vegetable, legume, group 6 except soybean” at 5.0 ppm. Therefore, EPA proposes to correct these errors by revoking the incorrect tolerances in 40 CR 180.364(a) for sunflower, seed at 0.1 ppm; safflower, seed at 0.1 ppm; and “vegetable, legume, group 6 except soybean” at 5.0 ppm; and correcting the terminology for sunflower to “sunflower, seed” at 85 ppm and safflower to “safflower, seed” at 85 ppm.

There are a number of Codex MRLs for glyphosate for which harmonization with a U.S. tolerance is not possible at this time. In the case of fodder, hay and/or straw commodities of alfalfa, barley, bean, grasses, maize, oat, pea, sorghum, and wheat, the U.S. tolerances are determine on a “wet weight” basis where as the Codex MRLs are determined on a “dry weight” basis, and are, therefore, not comparable. Sugarcane molasses, having a U.S. tolerance for glyphosate of 30 ppm, could not be harmonized to the lower Codex MRL of 10 ppm due to the concentration of the glyphosate residues demonstrated by processing data. Some U.S. glyphosate tolerances could not be harmonized because the Codex MRL is based on the individual commodity and the U.S. tolerance is a crop group tolerance (e.g. vegetable, legume, group 6, except soybean.) which is higher to cover all commodities in the group. The U.S. tolerance for glyphosate in/on banana could not be lowered to harmonize with Codex due to differing use patterns.

8. Metolachlor. Tolerances for metolachlor in/on spinach at 0.3 ppm, grass forage at 10 ppm, grass hay at 0.2 ppm and tomato at 0.1 ppm expired on 12/31/01 and tomato expired on 6/30/02. Based on additional new field trial data that indicate residues as high as 8.4 ppm in/on grass forage, 0.11 ppm in/on grass hay, 0.38 ppm in/on spinach and 0.08 ppm in/on tomatoes, the Agency has determined that permanent tolerances should be established in /on grass, forage at 10 ppm; grass, hay at 0.20 ppm; spinach at 0.50 ppm and tomato at 0.10 ppm. The establishment of these tolerances was inadvertently omitted from the proposal of August 8, 2008 (72 FR 44439) (FRL-8138-8). In that proposal the Agency also revised the terminology for the “seed and pod vegetables (except soybean) crop group” which includes okra and dill commodities to the new terminology, “vegetable legume crop group” which does not include dill and okra; therefore, at that time, separate tolerances should have been proposed for okra at 0.50 ppm and dill at 0.50 ppm. Therefore, EPA proposes establishing tolerances in 40 CFR 180.368(a)(1) for the combined metolachlor residues of concern in/on grass, forage at 10 ppm; grass, hay at 0.20 ppm; spinach at 0.50 ppm; tomato at 0.10 ppm; dill at 0.50 ppm and okra at 0.50 ppm.

9. Napropamide. The sole registrant for napropamide requested the cancellation of the use of napropamide on the following commodities: Pistachio, grapefruit, lemon, orange, tangerine, nectarine, apricot, cherry, peach, plum, prune, apple, pear, fig, avocado, pomegranate, artichoke, and olives as published in the Federal Register on April 26, 2006 (71 FR 24687) (FRL-8059-2). Based on the cancellation of these uses on U.S. registrations, the Agency has determined the tolerances for artichoke, globe; avocado; fig; fruit, citrus; fruit, pome; fruit, stone; olive; pistachio; and pomegranate (the only tolerance in 40 CFR 180.328(b)) should be revoked on April 26, 2009. This expiration/revocation date should provide sufficient time for end users to exhaust those existing stocks and for treated commodities to clear the channels of trade. Also, there have been no registrations with uses on cucurbit vegetables for some time; therefore the Agency has determined that the tolerance in/on vegetables, cucurbit, group 9 should be revoked. Therefore, EPA proposes revoking the tolerances in 40 CFR 180.328(a) on the following commodities: Artichoke, globe; avocado; fig; fruit, citrus; fruit, pome; fruit, stone; olive; and pistachio each with an expiration/revocation date of April 26, 2009; the pomegranate tolerance in 40 CFR 180.328(b) with an expiration/revocation date of April 26, 2009; and revoking vegetables, cucurbit, group 9 on the date of publication of the final rule.

Currently, tolerances are established for the negligible residues (N) of the herbicide N,N-diethyl-2-(1-napthalenyloxy) propionamide. The negligible residue term and designation indicating negligible residues is no longer in accordance with Agency practice and should be removed. The common chemical name for N,N-diethyl-2-(1-napthalenyloxy) propionamide is napropamide and should be included in the tolerance expression. Lastly, the section should be revised to include the subsections for section 18 emergency exemptions and indirect or inadvertent residues and change subsection (b) designation to (c) for regional registrations. Therefore, the Agency proposes revising the tolerance expression in 40 CFR 180.328(a) to regulate the herbicide napropamide (N,N-diethyl-2-(1-napthalenyloxy) propionamide in or on food commodities and revising the subsections as follows: “(b) Section 18 emergency exemptions - reserved, (c) tolerances with regional registrations -reserved and (d) indirect or inadvertent residues -reserved.”

The Agency is updating commodity terminology to correspond to current practice. Currently, there is a tolerance in place for small fruit at 0.1 ppm in 40 CFR 180.328(a) which is considered obsolete and should be revised to correspond with current Agency commodity terminology. The current commodity terminology for small fruit is berry group 13 and cranberry, strawberry and grape (which were covered in the small fruit group, but not included in the berry group). Therefore, EPA is proposing to revise the tolerance in 40 CFR 180.328(a) for residues of the herbicide napropamide from small fruit at 0.1 ppm to berry, group 13 at 0.1 ppm; coffee, bean, green to coffee, green bean; and mint to peppermint, tops and spearmint, tops; and establish tolerances for cranberry, grape, and strawberry each at 0.1 ppm; revise vegetable, fruiting to vegetable, fruiting, group 8; and nut to nut, tree, group 14.

Currently, there are no Codex MRLs in place for napropamide.

10. Norflurazon. Based on the available feeding studies in livestock where residues of norflurazon were estimated less than 0.5 ppm in liver, the Agency determined tolerances should be established for cattle, goat, hog, horse, and sheep liver at 0.50 ppm. Therefore, EPA proposes increasing the tolerance in 40 CFR 180.356(a) for the norflurazon residues of concern in/on cattle, goat, hog, horse, and sheep, liver from 0.25 ppm to 0.50 ppm. The Agency determined that the increased tolerances are safe; i.e. there is a reasonable certainty that no harm will result from aggregate exposure to the pesticide chemical residue.

11. Pyrazon. Based on available crop field trial data that indicate residues of pyrazon as high as 0.79 ppm in/on garden beet roots, 4.64 ppm in/on garden beet tops, 0.14 ppm in/on sugar beet roots, 1.99 ppm in/on sugar beet tops 0.02 ppm in milk, the Agency determined that the tolerances should be increased to 0.9 ppm in/on beet, garden, roots; 7.0 ppm in/on beet, garden, tops; 0.2 ppm in/on beet, sugar, roots; 3.0 ppm in/on beet, sugar, tops; and 0.02 ppm in milk. The terminology negligible residues (N) associated with tolerances in 40 CFR 180.316 is no longer applicable and a terminology the Agency is no longer using. Therefore, EPA proposes increasing and revising the tolerances in 40 CFR 180.316(a) for the combined residues of pyrazon and its metabolites in/on beet, garden, roots from 0.1(N) to 0.9 ppm; beet, garden, tops from 1 ppm to 7.0 ppm; beet, sugar, roots from 0.1(N) to 0.2 ppm; beet, sugar, tops from 1 ppm to 3.0 ppm; and milk from 0.01(N) ppm to 0.02 ppm. The Agency determined that the increased tolerances are safe; i.e. there is a reasonable certainty that no harm will result from aggregate exposure to the pesticide chemical residue.

Based on available crop field trial data and processing data that indicate residues of pyrazon as high as 0.2 ppm and a concentration factor of 6x in sugar beet molasses, the Agency determined that a tolerance should be established for beet, sugar, molasses at 1.5 ppm. Based on the available feeding studies and the estimated maximum dietary burden in livestock that indicate pyrazon residues as high as the level of quantitation, the Agency has determined tolerances should be established at the combined levels of quantitation of pyrazon and its metabolites in cattle, goat, horse, and sheep fat, meat, and meat byproducts (except liver) at 0.10 ppm. Based on the available feeding studies and estimated maximum dietary burden in livestock where residues of pyrazon were estimated as high as 0.123 ppm in liver, the Agency determined tolerances should be established for cattle, goat, horse, and sheep liver at 0.15 ppm. Therefore, EPA proposes establishing tolerances in 40 CFR 180.316(a) for the combined residues of pyrazon and its metabolites in/on beet, sugar, molasses at 1.5 ppm; cattle, fat at 0.10 ppm; cattle, liver at 0.15 ppm; cattle, meat at 0.10 ppm; cattle, meat byproducts, except liver at 0.10 ppm; goat, fat at 0.10 ppm; goat, liver at 0.15 ppm; goat, meat at 0.10 ppm; goat, meat byproducts, except liver at 0.10 ppm; horse, fat at 0.10 ppm; horse, liver at 0.15 ppm; horse, meat at 0.10 ppm; horse, meat byproducts, except liver at 0.10 ppm; sheep, fat at 0.10 ppm; sheep, liver at 0.15 ppm; sheep, meat at 0.10 ppm; sheep, meat byproducts, except liver at 0.10 ppm.

Based on available rotational crop field trial data that indicate the highest average field trial residues of pyrazon as high as 0.17 ppm wheat forage, 0.13 ppm in wheat hay, <0.10 ppm in wheat straw, 0.30 ppm in soybean forage and hay, and 0.30 ppm in field corn forage and stover, the Agency determined that tolerances should be established for the inadvertent and indirect residues of pyrazon in wheat, forage at 0.3 ppm; wheat, hay at 0.2 ppm; wheat straw at 0.1 ppm; soybean forage and hay at 0.5 ppm; and field corn forage and stover at 0.5 ppm. Therefore, EPA proposes establishing tolerances in 40 CFR 180.316(d) for the combined residues of pyrazon and its metabolites in/on wheat, forage at 0.3 ppm; wheat, hay at 0.2 ppm; wheat, straw at 0.1 ppm; soybean, forage at 0.5 ppm; soybean, hay at 0.5 ppm; corn, field, forage at 0.5 ppm; and corn, field, stover at 0.5 ppm.

Currently, there are no Codex MRLs in place for pyrazon.

12. Tau-Fluvalinate. A tolerance is currently established in 40 CFR 180.427(a) for residues of fluvalinate, (alpha RS , 2R)-fluvalinate [(RS)-alpha-cyano-3-phenoxybenzyl (R)-2-[2-chloro-4-(trifluoromethyl)anilino]-3-methylbutanoate” in/on honey at 0.05 ppm. “Fluvalinate” is the common name for the racemic mixture of the 4 isomers of cyano-(3-phenoxyphenyl)methyl N-[2-chloro-4-(trifluoromethyl)phenyl]-valinate (CAS name). “Tau-fluvalinate” is the term for the half resolved mixture (2 of the 4 isomers) and is the regulated residue. The tolerance expression should be corrected to reflect the correct common name of tau-fluvalinate and the CAS name. Additionally, based on available field trial data that indicate residues of tau-fluvalinate as high as 0.015 ppm in/on honey, the Agency determined that the tolerance should be decreased to 0.02 ppm. The registrant submitted a comment to docket announcing the RED requesting the tolerance be maintained at 0.05 ppm; however, they later withdrew the request. Therefore, EPA proposes decreasing the tolerance 40 CFR 180.427(a) in/on honey from 0.05 to 0.02 ppm and revising the tolerance expression to read as follows: “Tolerances are established for residues of the insecticide tau-fluvalinate [cyano-(3-phenoxyphenyl)methyl N-[2-chloro-4-(trifluoromethyl)phenyl]-D-valinate].”

Currently, there are no Codex MRLs in place for tau-fluvalinate.

B. What is the Agency's Authority for Taking this Action?

A “tolerance” represents the maximum level for residues of pesticide chemicals legally allowed in or on raw agricultural commodities and processed foods. Section 408 of FFDCA, 21 U.S.C. 346a, as amended by FQPA of 1996, Public Law 104-170, authorizes the establishment of tolerances, exemptions from tolerance requirements, modifications in tolerances, and revocation of tolerances for residues of pesticide chemicals in or on raw agricultural commodities and processed foods. Without a tolerance or exemption, food containing pesticide residues is considered to be unsafe and therefore “adulterated” under section 402(a) of FFDCA, 21 U.S.C. 342(a). Such food may not be distributed in interstate commerce (21 U.S.C. 331(a)). For a food-use pesticide to be sold and distributed, the pesticide must not only have appropriate tolerances under the FFDCA, but also must be registered under FIFRA (7 U.S.C. 136 et seq.). Food-use pesticides not registered in the United States must have tolerances in order for commodities treated with those pesticides to be imported into the United States.

EPA is proposing these tolerance actions to implement the tolerance recommendations made during the reregistration and tolerance reassessment processes (including follow-up on canceled or additional uses of pesticides). As part of these processes, EPA is required to determine whether each of the amended tolerances meets the safety standard of FQPA. The safety finding determination is discussed in detail in each post-FQPA RED and TRED for the active ingredient. REDs and TREDs recommend the implementation of certain tolerance actions, including modifications to reflect current use patterns, to meet safety findings, and change commodity names and groupings in accordance with new EPA policy. Printed and electronic copies of the REDs and TREDs are available as provided in Unit II.A.

EPA has issued post-FQPA REDs and TREDs for benfluralin, carbaryl, diazinon, dicrotophos, fluometuron, formetanate-hydrochloride, metolachlor, napropamide, norflurazon, pyrazon and tau-fluvalinate. Also, EPA issued a RED prior to FQPA for glyphosate and made a safety finding which reassessed its tolerances according to the FFDCA standard, maintaining them when new tolerances were established as noted in Unit II.A. REDs and TREDs contain the Agency's evaluation of the database for these pesticides, including requirements for additional data on the active ingredients to confirm the potential human health and environmental risk assessments associated with current product uses, and in REDs state conditions under which these uses and products will be eligible for reregistration. The REDs and TREDs recommended the establishment, modification, and/or revocation of specific tolerances. RED and TRED recommendations such as establishing or modifying tolerances, and in some cases revoking tolerances, are the result of assessment under the FFDCA standard of “reasonable certainty of no harm.” However, tolerance revocations recommended in REDs and TREDs that are proposed in this document do not need such assessment when the tolerances are no longer necessary.

EPA's general practice is to propose revocation of tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

Furthermore, as a general matter, the Agency believes that retention of import tolerances not needed to cover any imported food may result in unnecessary restriction on trade of pesticides and foods. Under section 408 of FFDCA, a tolerance may only be established or maintained if EPA determines that the tolerance is safe based on a number of factors, including an assessment of the aggregate exposure to the pesticide and an assessment of the cumulative effects of such pesticide and other substances that have a common mechanism of toxicity. In doing so, EPA must consider potential contributions to such exposure from all tolerances. If the cumulative risk is such that the tolerances in aggregate are not safe, then every one of these tolerances is potentially vulnerable to revocation. Furthermore, if unneeded tolerances are included in the aggregate and cumulative risk assessments, the estimated exposure to the pesticide would be inflated. Consequently, it may be more difficult for others to obtain needed tolerances or to register needed new uses. To avoid potential trade restrictions, the Agency is proposing to revoke tolerances for residues on crops uses for which FIFRA registrations no longer exist, unless someone expresses a need for such tolerances. Through this proposed rule, the Agency is inviting individuals who need these import tolerances to identify themselves and the tolerances that are needed to cover imported commodities.

Parties interested in retention of the tolerances should be aware that additional data may be needed to support retention. These parties should be aware that, under FFDCA section 408(f), if the Agency determines that additional information is reasonably required to support the continuation of a tolerance, EPA may require that parties interested in maintaining the tolerances provide the necessary information. If the requisite information is not submitted, EPA may issue an order revoking the tolerance at issue.

When EPA establishes tolerances for pesticide residues in or on raw agricultural commodities, consideration must be given to the possible residues of those chemicals in meat, milk, poultry, and/or eggs produced by animals that are fed agricultural products (for example, grain or hay) containing pesticides residues (40 CFR 180.6). When considering this possibility, EPA can conclude that:

1. Finite residues will exist in meat, milk, poultry, and/or eggs.

2. There is a reasonable expectation that finite residues will exist.

3. There is a reasonable expectation that finite residues will not exist. If there is no reasonable expectation of finite pesticide residues in or on meat, milk, poultry, or eggs, tolerances do not need to be established for these commodities (40 CFR 180.6(b) and (c)).

EPA has evaluated certain specific meat, milk, poultry, and egg tolerances proposed for revocation in this document and has concluded that there is no reasonable expectation of finite pesticide residues of concern in or on those commodities.

C. When Do These Actions Become Effective?

EPA is proposing that the tolerance actions become effective on the date of publication of the final rule in the Federal Register unless otherwise indicated (i.e. napropamide and carbaryl). The tolerances proposed for revocation in this document are associated with uses that have been canceled for several years. The Agency believes that treated commodities have had sufficient time for passage through the channels of trade. However, if EPA is presented with information that existing stocks would still be available and that information is verified, the Agency will consider extending the expiration date of the tolerance. If you have comments regarding existing stocks and whether the effective date allows sufficient time for treated commodities to clear the channels of trade, please submit comments as described under SUPPLEMENTARY INFORMATION.

Any commodities listed in this proposal treated with the pesticides subject to this proposal, and in the channels of trade following the tolerance revocations, shall be subject to section 408(1)(5) of FFDCA, as established by FQPA. Under this unit, any residues of these pesticides in or on such food shall not render the food adulterated so long as it is shown to the satisfaction of the Food and Drug Administration that:

1. The residue is present as the result of an application or use of the pesticide at a time and in a manner that was lawful under FIFRA, and

2. The residue does not exceed the level that was authorized at the time of the application or use to be present on the food under a tolerance or exemption from tolerance. Evidence to show that food was lawfully treated may include records that verify the dates when the pesticide was applied to such food.

III. Are the Proposed Actions Consistent with International Obligations?

The tolerance actions in this proposal are not discriminatory and are designed to ensure that both domestically produced and imported foods meet the food safety standards established by FFDCA. The same food safety standards apply to domestically produced and imported foods.

In making its tolerance decisions, EPA seeks to harmonize U.S. tolerances with international standards whenever possible, consistent with U.S. food safety standards and agricultural practices. EPA considers the international Maximum Residue Limits (MRLs) established by the Codex Alimentarius is a joint U.N. Food and Agriculture Organization/World Health Organization food standards program, and it is recognized as an international food safety standards-setting organization in trade agreements to which the United States is a party. EPA may establish a tolerance that is different from a Codex MRL; however, section 408(b)(4) of FFDCA requires that EPA explain the reasons for departing from the Codex level in a notice published for public comment. EPA's effort to harmonize with Codex MRLs is summarized in the tolerance reassessment section of individual REDs and TREDs, and in the Residue Chemistry document which supports the RED and TRED, as mentioned in Unit II.A. Specific tolerance actions in this proposed rule and how they compare to Codex MRLs (if any) are discussed in Unit II.A.

IV. Statutory and Executive Order Reviews

In this proposed rule, EPA is proposing to establish tolerances under FFDCA section 408(e), and also modify and revoke specific tolerances established under FFDCA section 408. The Office of Management and Budget (OMB) has exempted these types of actions (e.g., establishment and modification of a tolerance and tolerance revocation for which extraordinary circumstances do not exist)] from review under Executive Order 12866, entitled Regulatory Planning and Review (58 FR 51735, October 4, 1993). Because this proposed rule has been exempted from review under Executive Order 12866 due to its lack of significance, this proposed rule is not subject to Executive Order 13211, Actions Concerning Regulations That Significantly Affect Energy Supply, Distribution, or Use (66 FR 28355, May 22, 2001). This proposed rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-113, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020) (FRL-5753-1), respectively, and were provided to the Chief Counsel for Advocacy of the Small Business Administration. Taking into account this analysis, and available information concerning the pesticides listed in this proposed rule, the Agency hereby certifies that this proposed rule will not have a significant negative economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket of this proposed rule). Furthermore, for the pesticide named in this proposed rule, the Agency knows of no extraordinary circumstances that exist as to the present proposal that would change the EPA's previous analysis. Any comments about the Agency's determination should be submitted to the EPA along with comments on the proposal, and will be addressed prior to issuing a final rule. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This proposed rule directly regulates growers, food processors, food handlers, and food retailers, not States. This action does not alter the relationships or distribution of power and responsibilities established by Congress in the preemption provisions of section 408(n)(4) of FFDCA. For these same reasons, the Agency has determined that this proposed rule does not have any “tribal implications” as described in Executive Order 13175, entitled Consultation and Coordination with Indian Tribal Governments (65 FR 67249, November 9, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This proposed rule will not have substantial direct effects on tribal governments, on the relationship between the Federal Government and Indian tribes, or on the distribution of power and responsibilities between the Federal Government and Indian tribes, as specified in Executive Order 13175. Thus, Executive Order 13175 does not apply to this proposed rule.

List of Subjects in 40 CFR Part 180

Environmental protection, Administrative practice and procedure, Agricultural commodities, Pesticides and pests, Reporting and recordkeeping requirements.

Dated: May 8, 2008.
Debra Edwards,
Director, Office of Pesticide Programs.

Therefore, it is proposed that 40 CFR chapter I be amended as follows:

PART 180

—[AMENDED]

1. The authority citation for part 180 continues to read as follows:

Authority: 21 U.S.C. 321(q), 346a and 371.

2. Section 180.153 is amended by revising the table in paragraph (a)(1); and paragraph (c) to read as follows:

§ 180.153 Diazinon; tolerances for residues.

(a) General. (1) * * *

Commodity | Parts per million
Almond, hulls | 3.0
Apple | 0.50
Apricot | 0.20
Bean, lima | 0.50
Bean, snap, succulent | 0.50
Beet, garden, roots | 0.75
Blueberry | 0.50
Caneberry subgroup 13-07A | 0.75
Carrot, roots | 0.75
Cattle, fat | 0.5
Cherry, sweet | 0.20
Cherry, tart | 0.20
Cranberry | 0.50
Escarole | 0.7
Fig | 0.50
Ginseng | 0.75
Hazelnut | 0.50
Kiwifruit1 | 0.75
Lettuce | 0.7
Melon | 0.75
Nectarine | 0.20
Onion, bulb | 0.75
Onion, green | 0.75
Peach | 0.20
Pear | 0.50
Pea, succulent | 0.50
Pineapple | 0.50
Plum, prune, fresh | 0.20
Radish | 0.50
Rutabaga | 0.75
Spinach | 0.70
Strawberry | 0.50
Tomato | 0.75
Vegetable, brassica, leafy, group 5 | 0.70
Watercress | 0.05
¹There are no domestic registrations for kiwifruit as of March 6, 2002.

(c) Tolerances with regional registrations. Tolerances with regional registration, as defined in §180.1(m), are established for residues of the insecticide diazinon (O, O-diethyl O-(6-methyl-2-(1-methylethyl)-4-pyrimidinyl]- phosphorothioate; CAS Reg. No. 333-41-5) in or on the following food commodities:

Commodity | Parts per million
Almond | 0.50
Banana | 0.20
Celery | 0.70
Cucumber | 0.75
Parsley, leaves | 0.75
Parsnip | 0.50
Pepper | 0.5
Potato | 0.10
Potato, sweet | 0.10
Squash, summer | 0.50
Squash, winter | 0.75
Swiss chard | 0.70
Turnip, roots | 0.50
Turnip, tops | 0.75

3. Section 180.169 is amended by revising paragraphs (a)(1), (a)(2) and (c) to read as follows:

§ 180.169 Carbaryl; tolerances for residues.

(a) General. (1) Tolerances are established for residues of the insecticide carbaryl (1-naphthyl N-methylcarbamate) per se in/on the following food commodities:

Commodity | Parts per million | Expiration/Revocation Date
Alfalfa | 50 | None
Alfalfa, hay | 75 | None
Almond, hulls | 50 | None
Apple, wet pomace | 15 | None
Asparagus | 15 | None
Banana | 5.0 | None
Beet, sugar, tops | 25 | None
Beet, sugar, roots | 0.5 | None
Bushberry subgroup 13-07B | 3.0 | None
Caneberry subgroup 13-07A | 12.0 | None
Cabbage | 21 | None
Cactus, fruit | 5.0 | None
Cactus, pads | 12 | None
Citrus, oil | 20 | None
Clover, forage | 50 | None
Clover, hay | 70 | None
Corn, field, forage | 30 | None
Corn, field, grain | 0.02 | None
Corn, field, stover | 20 | None
Corn, pop, grain | 0.02 | None
Corn, pop, stover | 20 | None
Corn, sweet, forage | 185 | None
Corn, sweet, kernel plus cob with husks removed | 0.1 | None
Corn, sweet, stover | 215 | None
Cotton, undelinted seed | 5.0 | 10/31/09
Cranberry | 3.0 | None
Dandelion, leaves | 22 | None
Endive | 10 | None
Flax, seed | 0.5 | None
Fruit, citrus, group 10 | 10 | None
Fruit, pome, group 11 | 12 | None
Fruit, stone, group 12 | 10 | None
Grain, aspirated fractions | 70 | None
Grape | 10 | None
Grape, raisin | 12 | None
Grass, forage | 100 | None
Grass, hay | 15 | None
Leaf petiole subgroup 4B | 3.0 | None
Lettuce | 10 | None
Millet, proso, grain | 1.0 | None
Millet, proso, staw | 20 | None
Nut, tree group 14, except walnut | 0.1 | None
Okra | 4.0 | None
Olive | 10 | None
Oyster | 0.25 | None
Parsley, leaves | 22 | None
Pea and bean, dried shelled, except soybean, subgroup 6C | 1.0 | None
Peanut | 0.05 | None
Peanut, hay | 20 | None
Pineapple | 2.0 | None
Pistachio | 0.1 | None
Rice, grain | 15 | None
Rice, hulls | 30 | None
Rice, straw | 60 | None
Sorghum grain, forage | 30 | None
Sorghum grain, grain | 10 | None
Sorghum, grain, stover | 30 | None
Soybean, seed | 0.5 | None
Soybean, forage | 15 | None
Soybean, hay | 15 | None
Spinach | 22 | None
Strawberry | 4.0 | None
Sunflower, seed | 0.5 | None
Sweet potato, roots | 0.2 | None
Trefoil, forage | 15 | None
Trefoil, hay | 25 | None
Vegetable, brassica, leafy, group 5, except cabbage | 10 | None
Vegetable, cucurbit, group 9 | 3.0 | None
Vegetable, foliage legume, group 7 | 60 | None
Vegetable, fruiting, group 8 | 5.0 | None
Vegetable, leaves of root and tuber, group 2, except sugar beet tops | 75 | None
Vegetable, legume, edible-podded, subgroup 6A | 10 | None
Vegetable, root and tuber, group 1, except sugar beet and sweet potato | 2.0 | None
Walnut | 1.0 | None
Wheat, forage | 30 | None
Wheat, grain | 1.0 | None
Wheat, hay | 30 | None
Wheat, straw | 20 | None

(2) Tolerances are established for residues of the insecticide carbaryl (1-naphthyl N-methylcarbamate) including its metabolites 1-naphthol (naphthyl-sulfate), 5,6-dihydrodihydroxycarbaryl and 5,6-dihydrodihydroxy naphthol, calculated as 1-naphthyl N-methylcarbamate and the free and conjugated residues of carbaryl: 5,6-dihydro-5,6-dihydroxy carbaryl, and 5-methoxy-6-hydroxy carbaryl in/on the following food commodities:

Commodity | Parts per million | Expiration/Revocation Date
Cattle, fat | 0.5 | None
Cattle, meat | 1.0 | None
Cattle, meat byproducts | 3.0 | None
Egg | 0.5 | 10/30/09
Goat, fat | 0.5 | None
Goat, meat | 1.0 | None
Goat, meat byproducts | 3.0 | None
Hog, fat | 0.5 | None
Hog, meat | 1.0 | None
Hog, meat byproducts | 3.0 | None
Horse, fat | 0.5 | None
Horse, meat | 1.0 | None
Horse, meat byproducts | 3.0 | None
Milk | 1.0 | None
Poutry, fat | 5.0 | 10/30/09
Poultry,meat | 5.0 | 10/30/09
Sheep, fat | 0.5 | None
Sheep, meat | 1.0 | None
Sheep, meat byproducts | 3.0 | None

* * * * *

(c) Tolerances with regional registrations. Tolerances are established for the residues of the insecticide carbaryl (1-naphthyl N-methylcarbamate) per se in/on the following food commodities:

Commodity | Parts per million
Dillweed, fresh leaves | 0.2

4. Section 180.208 is amended by revising the heading and paragraph (a) is to read as follows:

§ 180.208 Benfluralin; tolerances for residues.

(a) General. Tolerances are established for residues of the herbicide benfluralin, (N-Butyl-N-ethyl-ααα-trifluoro-2,6-dinitro-p-toluidine) in or on the following food commodities:

Commodity | Parts per million
Alfalfa, forage | 0.05
Alfalfa, hay | 0.05
Clover, forage | 0.05
Clover, hay | 0.05
Lettuce | 0.05
Trefoil, forage | 0.05
Trefoil, hay | 0.05

5. Section 180.229 is amended by revising paragraph (a) and adding text to paragraph (d) to read as follows:

§ 180.229 Fluometuron; tolerances for residues.

(a) General. (1) Tolerances are established for the combined residues of the herbicide fluometuron (N, N-dimethyl-N'-(3-trifluoromethyl)phenyl)urea) and its metabolite trifluoromethylaniline (TFMA) determined as TFMA in or on the following food commodities:

Commodity | Parts per million
Cotton, gin byproducts | 3.5
Cotton, undelinted seed | 1.0

(2) Tolerances are established for the combined residues of the herbicide fluometuron (N,N-dimethyl-N'-(3-trifluoromethyl)phenyl)urea), its metabolites determined as TFMA, and the hydroxylated metabolites [CGA-236431 (1-(4-hydroxy-3-trifluoromethyl-phenyl)urea), CGA-236432 (1-methyl-3-(4-hydroxy-3-trifluoromethylphenyl)urea), CGA-13211 (1,1-dimethyl-3-(4-hydroxy-3-trifluoromethylphenyl)urea)] in or on the following food commodities:

Commodity | Parts per million
Cattle, meat byproducts | 0.1
Egg | 0.1
Goat, meat byproducts | 0.1
Hog, meat byproducts | 0.1
Horse, meat byproducts | 0.1
Milk | 0.02
Poultry, fat | 0.1
Poultry, meat | 0.1
Poultry, meat byproducts | 0.1
Sheep, meat byproducts | 0.1

* * * * *

(d) Indirect or inadvertent residues. Tolerances are established for the combined residues of the herbicide fluometuron (N, N-dimethyl-N'-(3-trifluoromethyl)phenyl)urea) and its metabolite trifluoromethylaniline (TFMA) determined as TFMA in or on the following food commodities.

Commodity | Parts per million
Grain, cereal, group 15 | 0.5
Grain, cereal, forage group 16 | 3.0
Grain, cereal, fodder, and straw, group 16 | 6.0
Peanut | 0.1
Peanut, hay | 4.0
Peanut, meal | 0.2
Soybean, seed | 2.0
Soybean, forage | 3.0
Soybean, hay | 3.0
Rice, hulls | 1.0
Wheat, milled byproducts | 1.0

6. Section 180.276 is amended by revising the table in paragraph (a) to read as follows:

§ 180.276 Formetanate hydrochloride; tolerances for residues.

(a) General. * * *

Commodity | Parts per million
Apple | 0.50
Apple, wet pomace | 1.5
Grapefruit | 1.5
Lemon | 0.60
Lime | 0.03
Nectarine | 0.40
Orange, sweet | 1.5
Peach | 0.40
Pear | 0.50
Tangelo | 0.03
Tangerine | 0.03

7. Section 180.299 is revised to read as follows:

§ 180.299 Dicrotophos; tolerances for residues.

(a) General. Tolerances are established for residues of the insecticide dicrotophos (dimethyl phosphate of 3-hydroxy-N,N-dimethyl-cis-crotonamide) in/on the following food commodities:

Commodity | Parts per million
Cotton, gin by products | 2.0
Cotton, undelinted seed | 0.2

(b) Section 18 emergency exemptions. [Reserved]

(c) Tolerances with regional registrations. [Reserved]

(d) Indirect or inadvertent residues. [Reserved]

8. Section 180.316 is amended by revising the table in paragraph (a) and by adding text to paragraph (d) to read as follows:

§ 180.316 Pyrazon; tolerances for residues.

(a) General. * * *

Commodity | Parts per million
Beet, garden, roots | 0.9
Beets, garden, tops | 7.0
Beets, sugar, molasses | 1.5
Beets, sugar, roots | 0.2
Beets, sugar, tops | 3.0
Cattle, fat | 0.10
Cattle, liver | 0.15
Cattle, meat | 0.10
Cattle, meat byproducts, except liver | 0.10
Goat, fat | 0.10
Goat, liver | 0.15
Goat, meat | 0.10
Goat, meat byproducts, except liver | 0.10
Horse, fat | 0.10
Horse, liver | 0.15
Horse, meat | 0.10
Horse, meat byproducts, except liver | 0.10
Milk | 0.02
Sheep, fat | 0.10
Sheep, liver | 0.15
Sheep, meat | 0.10
Sheep, meat byproducts, except liver | 0.10

(d) Indirect or inadvertent residues. Tolerances are established for combined residues of the herbicide pyrazon (5-amino-4-chloro-2-phenyl-3(2H)-pyridazinone) and its metabolites (calculated as pyrazon) in or on the following food commodities:

Commodity | Parts per million
Corn, field, forage | 0.5
Corn, field, stover | 0.5
Soybean, forage | 0.5
Soybean, hay | 0.5
Wheat, forage | 0.3
Wheat, hay | 0.2
Wheat, straw | 0.1

§ 180.319 [Amended]

9. Section 180.319 is amended in the table by removing the entry for Carbaryl (1-naphthyl N-methylcarbamate) and its metabolites 1-naphthol, calculated as carbaryl.

10. Section 180.328 is revised to read as follows:

§ 180.328 Napropamide; tolerances for residues.

(a) General. Tolerances are established for the herbicide napropamide (N,N-diethyl-2-(1-napthalenyloxy) propionamide in or on the following food commodities:

Commodity | Parts per million | Expiration/Revocation Date
Almond, hulls | 0.1 | None
Artichoke, globe | 0.1 | 4/26/09
Asparagus | 0.1 | None
Avocado | 0.1 | 4/26/09
Basil | 0.1 | None
Berry group 13 | 0.1 | None
Cranberry | 0.1 | None
Coffee, green bean | 0.1 | None
Fig | 0.1 | 4/26/09
Fruit, citrus | 0.1 | 4/26/09
Fruit, pome | 0.1 | 4/26/09
Fruit, stone | 0.1 | 4/26/09
Grape | 0.1 | None
Kiwifruit | 0.1 | None
Marjoram | 0.1 | None
Nut, tree, group 14 | 0.1 | None
Olive | 0.1 | 4/26/09
Peppermint, tops | 0.1 | None
Persimmon | 0.1 | None
Pistachio | 0.1 | 04/26/09
Rhubarb | 0.1 | None
Rosemary | 0.1 | None
Savory, summer | 0.1 | None
Savory, winter | 0.1 | None
Spearmint, tops | 0.1 | None
Strawberry | 0.1 | None
Sweet potato, roots | 0.1 | None
Vegetable, brassica, leafy, group 5 | 0.1 | None
Vegetable, fruiting, group 8 | 0.1 | None

(b) Section 18 emergency exemptions. [Reserved]

(c) Tolerances with regional registrations. Tolerances are established for the herbicide napropamide (N,N-diethyl-2-(1-napthalenyloxy) propionamide in or on the following food commodities:

Commodity | Parts per million | Expiration/Revocation Date
Pomegranate | 0.1 | 4/26/09

(d) Indirect or inadvertent residues. [Reserved]

11. Section 180.356 is amended in paragraph (a) by revising the tolerance level for the commodities listed in the table to read to as follows:

§ 180.356 Norflurazon; tolerances for residues.

(a) General. * * *

Commodity | Parts per million
* * * * *
Cattle, liver | 0.50
* * * * *
Goat, liver | 0.50
* * * * *
Hog, liver | 0.50
* * * * *
Horse, liver | 0.50
* * * * *
Sheep, liver | 0.50
* * * * *

12. Section 180.364 is amended by revising the table in paragraph (a) to read as follows:

§ 180.364 Glyphosate; tolerances for residues.

(a) General. * * *

Commodity | Parts per million
Acerola | 0.2
Alfalfa, seed | 0.5
Almond, hulls | 25
Aloe vera | 0.5
Ambarella | 0.2
Animal feed, nongrass, group 18 | 400
Artichoke, globe | 0.2
Asparagus | 0.5
Atemoya | 0.2
Avocado | 0.2
Bamboo, shoots | 0.2
Banana | 0.2
Barley, bran | 30
Beet, sugar, dried pulp | 25
Beet, sugar, roots | 10
Beet, sugar, tops | 10
Berry group 13 | 0.2
Betelnut | 1.0
Biriba | 0.2
Blimbe | 0.2
Borage, seed | 0.1
Breadfruit | 0.2
Cacao bean | 0.2
Cactus, fruit | 0.5
Cactus, pads | 0.5
Canistel | 0.2
Canola, seed | 20
Cattle, meat byproducts | 5.0
Chaya | 1.0
Cherimoya | 0.2
Citrus, dried pulp | 1.5
Coconut | 0.1
Coffee, bean | 1.0
Corn, field, forage | 6.0
Corn, field, grain | 5.0
Corn, pop, grain | 0.1
Corn, sweet, grain | 0.1
Cotton, gin byproducts | 175
Cotton, undelinted seed | 40
Cranberry | 0.2
Crambe, seed | 0.1
Custard apple | 0.2
Date | 0.2
Dokudami | 2.0
Durian | 0.2
Egg | 0.05
Epazote | 1.3
Feijoa | 0.2
Fig | 0.2
Fish | 0.25
Flax, meal | 8.0
Flax, seed | 4.0
Fruit, citrus, group 10 | 0.5
Fruit, pome, group 11 | 0.2
Fruit, stone, group 12 | 0.2
Galangal, roots | 0.2
Ginger, white, flower | 0.2
Goat, meat byproducts | 5.0
Gourd, buffalo, seed | 0.1
Governor's plum | 0.2
Gow kee, leaves | 0.2
Grain, aspirated fractions | 100
Grain, cereal, forage, fodder and straw, group 16, except corn forage | 100
Grain, cereal, group 15 except rice, wild rice, field corn, sweet corn, and popcorn | 30
Grape | 0.2
Grass, forage, fodder and hay, group 17 | 300
Guava | 0.2
Herbs subgroup 19A | 0.2
Hog, meat byproducts | 5.0
Hop, dried cones | 7.0
Horse, meat byproducts | 5.0
Ilama | 0.2
Imbe | 0.2
Imbu | 0.2
Jackfruit | 0.2
Jaboticaba | 0.2
Jojoba, seed | 0.1
Juneberry | 0.2
Kava, roots | 0.2
Kenaf, forage | 200
Kiwifruit | 0.2
Lesquerella, seed | 0.1
Leucaena, forage | 200
Lingonberry | 0.2
Longan | 0.2
Lychee | 0.2
Mamey apple | 0.2
Mango | 0.2
Mangosteen | 0.2
Marmaladebox | 0.2
Meadowfoam, seed | 0.1
Mioga, flower | 0.2
Mustard, seed | 0.1
Noni | 0.20
Nut, pine | 1.0
Nut, tree, group 14 | 1.0
Okra | 0.5
Olive | 0.2
Oregano, Mexican, leaves | 2.0
Palm heart | 0.2
Palm heart, leaves | 0.2
Palm, oil | 0.1
Papaya | 0.2
Papaya, mountain | 0.2
Passionfruit | 0.2
Pawpaw | 0.2
Pea, dry | 8.0
Peanut | 0.1
Peanut, hay | 0.5
Pepper leaf, fresh leaves | 0.2
Peppermint, tops | 200
Perilla, tops | 1.8
Persimmon | 0.2
Pineapple | 0.1
Pistachio | 1.0
Pomegranate | 0.2
Poultry, meat | 0.1
Poultry, meat byproducts | 1.0
Pulasan | 0.2
Quinoa, grain | 5.0
Rambutan | 0.2
Rapeseed, seed | 20
Rice, grain | 0.1
Rice, grain, wild | 0.1
Rose apple | 0.2
Safflower, seed | 85
Salal | 0.2
Sapodilla | 0.2
Sapote, black | 0.2
Sapote, mamey | 0.2
Sapote, white | 0.2
Sesame, seed | 0.1
Sheep, meat byproducts | 5.0
Shellfish | 3.0
Soursop | 0.2
Soybean, forage | 100
Soybean, hay | 200
Soybean, hulls | 100
Soybean, seed | 20
Spanish lime | 0.2
Spearmint, tops | 200
Spice subgroup 19B | 7.0
Star apple | 0.2
Starfruit | 0.2
Stevia, dried leaves | 1.0
Strawberry | 0.2
Sugar apple | 0.2
Sugarcane, cane | 2.0
Sugarcane, molasses | 30
Sunflower, seed | 85
Surinam cherry | 0.2
Tamarind | 0.2
Tea, dried | 1.0
Tea, instant | 7.0
Teff, grain | 5.0
Ti, leaves | 0.2
Ti, roots | 0.2
Ugli fruit | 0.5
Vegetable, leafy, brassica, group 5 | 0.2
Vegetable, bulb, group 3 | 0.2
Vegetable, cucurbit, group 9 | 0.5
Vegetable, foliage of legume, except soybean, subgroup 7A | 0.2
Vegetable, fruiting, group 8 | 0.1
Vegetable, leafy, except brassica, group 4 | 0.2
Vegetable, leaves of root and tuber, group 2, except sugar beet tops | 0.2
Vegetable, legume, group 6 except soybean and pea, dry | 5.0
Vegetable, root and tuber, group 1, except sugar beet | 0.2
Wasabi, roots | 0.2
Water spinach, tops | 0.2
Watercress, upland | 0.2
Wax jambu | 0.2
Yacon, tuber | 0.2

13. Section 180.368 is amended by alphabetically adding commodities to the table in paragraph (a)(1) to read as follows:

§ 180.368 Metolachlor; tolerances for residues.

(a) General. (1) * * *

Commodity | Parts per million
* * * * *
Dill | 0.50
* * * * *
Grass, forage | 10
Grass, hay | 0.20
* * * * *
Okra | 0.50
* * * * *
Spinach | 0.50
* * * * *
Tomato | 0.10
* * * * *

14. Section 180.427 is amended by revising the heading and paragraph (a) to read as follows:

§ 180.427 Tau-fluvalinate; tolerances for residues.

(a) General. Tolerances are established for residues of the insecticide tau-fluvalinate [cyano-(3-phenoxyphenyl)methyl N-[2-chloro-4-(trifluoromethyl)phenyl]-D-valinate] in/on the following food commodities:

Commodity | Parts per million
Honey | 0.02

[FR Doc. E8-11420 Filed 5-20-08; 8:45 am]

BILLING CODE 6560-50-S